DEPARTMENT OF HOMELAND SECURITY

Coast Guard

33 CFR Part 165

[CGD07-03-144]

RIN 1625-AA00

RIN 1625-AA11

Regulated Navigation Area and Security Zones; Port of Miami, FL

AGENCY: Coast Guard, DHS.

ACTION: Temporary final rule.

SUMMARY: The Coast Guard is establishing a temporary regulated navigation area and temporary security zones, from November 16, 2003 through November 21, 2003 during the Free Trade Area of the Americas Conference (FTAA). The temporary regulated navigation area controls the movement of all vessels operating in the Port of Miami in the vicinity of the northwestern entrance of Dodge Island, western section of Government Cut, Main Channel, Lummus Island Cut, Lummus Island Turning Basin, Dodge Island Cut, MacArthur Causeway Bridge, Claughton Island, Bayside Marina and on the Miami River up to the Flagler Street Bridge. The security zones prohibit the entry of all vessels and persons into the waters adjacent to the Intercontinental Hotel and the American Airlines Arena. These regulations are required to provide for the security of the public, the FTAA conference and its participants, and the Port of Miami due to the potential for disturbances and hostile and violent acts from various demonstrators protesting the FTAA conference.

DATES: This rule is effective from 12:01 a.m. on November 16, 2003 until 11:59 p.m. on November 21, 2003.

ADDRESSES: Documents indicated in this preamble as being available in the docket are part of the docket [CGD07-03-144] and are available for inspection and copying at U. S. Coast Guard, Marine Safety Office, 100 MacArthur Causeway, Miami Beach, FL 33139-6940 between 7:30 a.m. and 3 p.m., Monday through Friday, except Federal holidays.

FOR FURTHER INFORMATION CONTACT: Lieutenant Douglas Tindall, Waterways Management Office, (305) 535-8701.

SUPPLEMENTARY INFORMATION:

Good Cause

We did not publish a notice of proposed rulemaking (NPRM) for this regulation. Under 5 U.S.C. 553(b)(B), the Coast Guard finds good cause exists for not publishing an NPRM because it is impracticable and contrary to public interest for the agency to do so. Information and intelligence regarding the potential for disturbances and hostile and violent acts by various protest groups continues to flow in and the Coast Guard expects this flow to increase as the commencement of the FTAA conference approaches. The Coast Guard must analyze the most current information and take appropriate actions to protect the public, the Port of Miami, and the FTAA participants.

For the same reasons under 5 U.S.C. 553(d)(3), the Coast Guard finds that good cause exists for making this rule effective less than 30 days after publication in the Federal Register.

Background and Purpose

Cities that have recently hosted trade conferences similar to the FTAA conference have experienced significant property damage, and their law enforcement officers and public citizens have sustained personal injuries from a segment of protestors engaged in violent demonstrations against those conferences and their agendas. Examples include the September 2003 World Trade Organization (WTO) Ministerial in Cancun, Mexico; the 2003 G-8 Summit in Calgary, Canada; the 2001 G-8 Summit in Genoa; Italy and the 1999 World Trade Organization in Seattle, Washington. These trade conferences experienced an influx of protestors, and in particular protest groups opposing international trade who have a propensity for violence and a desire to engage in hostile acts against, among others, conference attendees, conference venues, the general public, business and municipal buildings, and law enforcement assets. Information and intelligence indicate that there is a high potential for similar acts to be attempted during the upcoming November FTAA conference in Miami, Florida.

This history has heightened the need for the development and implementation of various security measures throughout the Port of Miami, Florida, particularly around venue areas established for the dignitaries and official parties attending the FTAA conference, the primary waterways used by commercial shipping within the Port of Miami and law enforcement staging areas. The Coast Guard has determined from information provided by local, state, and federal law enforcement officials that vessels or persons in close proximity to the FTAA conference may launch hostile or violent acts from the waters adjacent to the FTAA conference. The potential for these acts poses a security threat to the public, the FTAA and its participants, the Port of Miami and the flow of commerce within the Port of Miami. During similar past trade conferences, protestors have used personal watercraft (PWCs) to penetrate physical barriers surrounding conference venues and in attempts to launch various projectiles at conference venues and participants and law enforcement staging areas. They have also used Rigid Hull Inflatable Boats (RHIBs) to facilitate unauthorized boardings of commercial shipping and unauthorized entry into waterfront facilities and buildings, including commercial and government facilities. The use of high speed, highly maneuverable, shallow draft watercraft, such as PWCs and RHIBs, poses a significant security threat to FTAA conference venues, FTAA conference participants, the Port of Miami, commerce within the Port of Miami, the public, and law enforcement officers.

The temporary regulated navigation area and security zones are being established to mitigate these threats and are necessary to protect the public, the FTAA conference and attendees, law enforcement officers, the Port of Miami and commerce within the port from persons attempting hostile and violent acts, while preserving the rights of persons engaging in lawful free speech activities and ensuring that the flow of maritime commerce within the Port of Miami and on the Miami River is not impeded.

Discussion of Rule

The temporary regulated navigation area (RNA) includes all waters encompassed in the following areas: beginning from a mid-point on the Fisher Island coast; thence running along the north shoreline of Fisher Island; thence westerly to a point south of Dodge Island; thence northwesterly to a point near Quick Flashing Green Marker “15”; thence southwesterly to the northeastern tip of Claughton Island; thence west along the shoreline of Claughton Island; thence southerly along the northern side of Claughton Island; thence westerly along the northern side of the bridge that runs between Claughton Island and Brickell Point; thence northeasterly along the eastern shoreline of Brickell Point; thence encompassing the entire width of the Miami River, from the mouth of the Miami River to the west side of the Flagler Street Bridge; thence along the shoreline to the point that land intersects the MacArthur Causeway Bridge; thence east to the point near the northwestern shore of Watson Island; thence southwest along the shoreline to a point near the southeastern tip of Terminal Island; thence southeasterly back to the original point on Fisher Island.

The temporary RNA is necessary to ensure the safety of the public, the Port of Miami, and the FTAA. All vessels within the temporary RNA are subject to control by the Coast Guard Maritime Operations Center (MOC). The temporary RNA requires all vessels greater than 100 feet to check in with the MOC prior to entering or transiting the temporary RNA via VHF Channel 12. It is recommended that all other vessels check in with the MOC via VHF channel 12 prior to entering or transiting the temporary RNA.

Essentially, the temporary RNA encompasses the waters that make up the two main shipping channels on the north and south side of Dodge Island and the Intracoastal Waterway on the west side of Dodge Island and Watson Island in close proximity to FTAA venues. Information and past experience indicate that FTAA demonstrators may attempt to interfere with commercial shipping, both underway and while moored. Attempts may include unauthorized boardings of vessels while underway or moored in an effort to interrupt commerce and port operations. Additionally, demonstrators may attempt unauthorized entry into or upon commercial and government facilities located along the main shipping channels throughout the Port of Miami for these same reasons. The temporary RNA, by regulating the movement of vessels, imposing a slow speed zone, and excluding personal watercraft and rigid hull inflatable boats, will assist law enforcement officers in ensuring the safety and security of the Port of Miami, the public and the FTAA.

The temporary RNA requires all vessels less than 100 feet within the regulated area to proceed continuously and at slow speed. Slow speed is defined as the speed at which a vessel proceeds when it is fully off plane, completely settled into the water and not creating excessive wake. In no instance should slow speed be interpreted as a speed less than that required to maintain steerageway. Requiring vessels within the temporary RNA to transit at slow speed will allow law enforcement officers to identify, respond to, stop, and query vessels that are suspected of presenting a threat to the public, the Port of Miami, and the FTAA. Specifically, the slow speed requirement will allow the Coast Guard to adequately protect against threats of hostile and violent acts carried out by smaller vessels against commercial vessels transiting within the Port of Miami. The slow speed requirement enhances the ability of the MOC to control the movement of vessels within the temporary RNA which will further provide for the safety of the public, the Port of Miami and the FTAA.

The temporary RNA prohibits all personal watercraft (PWCs) from operating within the regulated area. For purposes of this rule, personal watercraft refers to a vessel(s), less than 16 feet in length, which uses an inboard, internal combustion engine powering a water jet pump as its primary source of propulsion. PWCs are designed to be operated by a person or persons sitting, standing or kneeling on the vessel, rather than within the confines of the hull. The length is measured from end to end over the deck excluding sheer, meaning a straight line measurement of the overall length from the foremost part of the vessel to the aftermost part of the vessel, measured parallel to the centerline. Bowsprits, bumpkins, rudders, outboard motor brackets, and similar fittings or attachments, are not included in the measurement. Length is stated in feet and inches.

The rule prohibits PWCs from operating within the temporary RNA due to their maneuverability, high speed, and minimal draft, characteristics which may allow them to outrun law enforcement vessels, operate in shallow and restricted areas, and hurdle or dive under barriers erected by law enforcement officials. PWCs would thus allow protestors a means of unauthorized entry into restricted areas in which they can carry out hostile and violent acts, such as launching projectiles or throwing other dangerous objects at conference participants. PWCs' unique capabilities make them a preferred watercraft for persons attempting hostile and violent acts against the public, the FTAA conference and attendees, law enforcement officers, the Port of Miami and commerce within the port.

The temporary RNA prohibits Rigid Hull Inflatable Boats (RHIBs) from operating within the RNA, with the exception of RHIBs operated by licensed commercial salvors and RHIBs operated by designated law enforcement officials. RHIBs operated by licensed commercial salvors are excepted from this rule because they provide a vital maritime service that would be impeded if they were prohibited from operating in the RNA and because they present little or no threat of engaging in hostile or violent acts as they are licensed by the Coast Guard and known to the Captain of the Port of Miami.

For purposes of this rule, Rigid Hull Inflatable Boat refers to a vessel(s) that has an inflatable fabric or rubber collar or a foam collar surrounding the hull of the vessel. An RHIB's collar is normally joined to a fiberglass hull on larger models or a fabric hull on smaller models. Fabric hulls are often also themselves inflatable, or have an inflatable keel and sometimes have a soft floor or a reinforced floor slated with wood or other rigid materials. RHIBs are powered by both outboard and inboard-outboard propulsion and because of their light weight can easily be powered by oars as well. RHIBs' light weight and the enormous reserve buoyancy and stability provided by their collars gives them high performance features including speed and maneuverability coupled with large load-carrying capacity and the ability to operate in shallow areas. Additionally, models with inflatable collars can be quickly deflated and stowed in small spaces and even carry bags. The collars are also non-marking, making them a preferred vessel for coming alongside other vessels, piers, docks, or facilities for the purpose of onloading or offloading persons and cargo, including for persons attempting unauthorized boardings of shipping and unauthorized entries into waterfront facilities, or placing unauthorized cargo onto shipping and facilities within the port. RHIBs' unique characteristics make them a preferred vessel for persons attempting hostile and violent acts against the public, the FTAA conference and attendees, law enforcement officers, the Port of Miami and commerce within the port.

Nothing in the temporary RNA relieves vessels or operators from complying with all state and local laws in the area, including manatee slow speed zones.

The temporary security zones prohibit all vessels from entering the waters of Biscayne Bay adjacent to the Intercontinental Hotel and the American Airlines Arena.

The Intercontinental Hotel Security Zone extends from the sea wall along the hotel's property easterly out to the edge of the Intracoastal Waterway channel. This security zone is necessary to ensure the waters surrounding the Intercontinental Hotel, which is the primary venue for the FTAA, are not used by persons attempting hostile and violent acts against the FTAA. Extending the security zone out to the edge of the Intracoastal Waterway is necessary to allow law enforcement officers ample opportunity to identify, stop and query vessels and persons suspected of attempting hostile and violent acts against the FTAA. The waters encompassed by this security zone range from a depth of zero to twelve feet and are subject to shoaling. Law enforcement vessels need a sufficient depth of water in order to operate safely and maneuver effectively. The shallow depth of water and shoaling within certain areas encompassed by the security zone precludes law enforcement vessels from being able to safely operate and maneuver in those areas. Co-locating the eastern boundary of the security zone with the western edge of Intracoastal Waterway is the best means to ensure law enforcement vessels will have sufficient room to operate, maneuver, and respond to shallow-draft vessels such as PWCs to provide effective security within the waters surrounding the FTAA venue.

The American Airlines Arena security zone encompasses all waters, shore to shore, within the American Airlines Arena Basin and extends outward to the intersection of the Intracoastal Waterway and the northern side of the Dodge Island Bridge. This security zone is necessary to ensure that the waters surrounding the American Airlines Arena are not used by persons and vessels attempting hostile and violent acts against the FTAA and law enforcement officers. The American Airlines Arena Basin will be used as law enforcement staging area. Information and intelligence indicates that FTAA protestors may attempt hostile and violent acts against law enforcement staging areas assigned to patrol the FTAA venue(s). Extending the security zone out to the northern side of the Dodge Island Bridge is necessary to allow law enforcement officers ample opportunity to identify, stop and query vessels and persons suspected of attempting hostile and violent acts against the FTAA and law enforcement staging areas and officials. This security zone is necessary to ensure adequate force protection is provided for law enforcement staging areas and law enforcement officers in the vicinity of the American Airlines Arena Basin.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this temporary rule to be so minimal that a full Regulatory Evaluation under the regulatory policies and procedures of DHS is unnecessary. The temporary regulated navigation area and security zones encompass a limited area and will be in place for a limited period of time. The temporary regulated navigation area allows all vessels, with the exception of PWCs and RHIBs, to transit through the RNA. RHIBs operated by licensed commercial salvors and designated law enforcement officials are not prohibited from operating within the temporary RNA. Vessels greater than 100 feet, upon checking in with the MOC, may transit through the temporary RNA. The security zones prohibit all vessels from entry; however, these zones are located outside of the navigable channels and will not interfere with commercial or other legitimate maritime interests.

Small Entities

Under the Regulatory Flexibility Act (5 U.S.C. 601-612), we have considered whether this temporary rule would have a significant economic impact on a substantial number of small entities. The term “small entities” includes small businesses, not-for-profit organizations that are independently owned and operated and are not dominant in their fields, and governmental jurisdictions with populations of less than 50,000.

The Coast Guard certifies under 5 U.S.C. 605(b) that this temporary rule will not have a significant economic impact on a substantial number of small entities. The temporary security zones do not encompass waters typically transited by commercial vessels. Additionally, there are alternate routes to transit around the temporary security zones. All vessels are permitted to transit the temporary regulated navigation area, with the exception of PWCs and RHIBs. However, RHIBs operated by licensed commercial salvors are permitted to operate within the temporary RNA.

This temporary rule may affect the following entities, some of which might be small entities: the owners or operators of vessels intending to transit the RNA within the Port of Miami from November 16, 2003 to November 21, 2003. Before the effective period, we will issue maritime advisories widely available to users of the Miami River and the Port of Miami.

Assistance for Small Entities

Under section 213(a) of the Small Business Regulatory Enforcement Fairness Act of 1996 (Pub. L. 104-121), we want to assist small entities in understanding this rule so that they can better evaluate its effects on them. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small businesses. If you wish to comment on actions by employees of the Coast Guard call 1-888-REG-FAIR (1-888-734-3247).

Collection of Information

This rule calls for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.lD, which guides the Coast Guard in complying with the National Environmental Policy Act of 1969 (NEPA)(42 U.S.C. 4321-4370f), and we have concluded that there are no factors in this case that would limit the use of a categorical exclusion under section 2.B.2 of the Instruction. Therefore, this rule is categorically excluded, under figure 2-1, paragraph (34)(g), of the Instruction, from further environmental documentation. Under figure 2-1, paragraph (34)(g), of the Instruction, an “Environmental Analysis Check List” and a “Categorical Exclusion Determination” are not required for this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 50 U.S.C. 191, 195; 46 U.S.C. Chapter 701; 33 CFR 1.05-1(g), 6.04-1, 6.04-6, and 160.5; Pub. L. 107-295, 116 Stat. 2064; Department of Homeland Security Delegation No. 0170.1.

2. From 12:01 a.m. on November 16, 2003 until 11:59 p.m. on November 21, 2003, add a new temporary section 165.T07-144 to read as follows:

§ 165.T07-144 Temporary regulated navigation area and temporary security zones, Port of Miami, FL.

(a) Locations. (1) Regulated navigation area. All waters of the Port of Miami, from surface to bottom, encompassed by a line commencing at the north mid-point of Fisher Island at 25°45.869′N, 080°08.311′W; thence, westerly along the northern shoreline of Fisher Island to 25°45.843′N, 080°08.942′W; thence, westerly to a point south of Dodge Island at 25°45.890′N, 080°10.122′W; thence, northwest to a point near Quick Flashing Green Marker “15” at 25°46.153′N, 080°10.223′W; thence, northwesterly to a point at 25°46.316′N, 080°10.604′ (located south of Dodge Island); thence, northwesterly to the northeastern tip of Claughton Island at 25°46.165′N, 080°10.969′W; thence, along the northern shoreline of Claughton Island, southeasterly along the western shoreline to 25°45.950′N, 080°11.163′W at Claughton Island; thence, westerly along the northern side of the bridge that runs between Claughton Island and Brickell Point to 25°45.943′N, 080°11.308′W; thence, northeasterly along the eastern shoreline of Brickell Point; thence, encompassing the entire width of the Miami River, from the mouth of the Miami River to the west side of the Flagler Street Bridge at 25°46.434′N, 080°12.046′W; thence, along the shoreline from the northern side of the mouth of the Miami River to 25°46.297′N, 080°11.098′W; thence, northerly along the shoreline northeasterly tip of the entrance to Bayside Marina at 25°46.742′N, 080°11.020′W; thence, northwesterly to a point near the west entrance to the Dodge Island Bridge 25°46.786′N, 080°11.113′W; thence, northerly along the shoreline to a point that intersects the MacArthur Causeway Bridge at 25° 47.216′N, 080°11.127′W; thence, easterly to a point near the northwestern shore of Watson Island 25° 47.241′N, 080°10.760′W; thence, southeasterly along the shoreline to a point near the southeastern tip of Terminal Island 25°46.166′N, 080°08.759′W; thence, southeasterly back to the original point 25°45.869′N, 080°08.311′W.

(2) Security zone; Intercontinental Hotel. All waters of the Port of Miami, from surface to bottom, adjacent to the Intercontinental Hotel, encompassed by a line commencing from the south Princessa Dock at 25°46.520′N, 080°11.100′W at Bayfront Park; thence, southerly along the shoreline to a point approximately 30 yards southeast of the Intercontinental Hotel at 25°46.290′N, 080°11.100′W; thence, westerly along the shoreline to a point 50 yards southwest of the Intercontinental Hotel at 25°46.210′N, 080°11.300′W; thence, northeasterly to a point in mid-channel at 25°46.348′N, 080°11.017′W; thence, north along the channel to a point 25°46.515′N, 080°11.019′W; thence, northwesterly back to the original point. All coordinates reference Datum NAD: 1983.

(3) Security zone; American Airlines Arena. All waters of the Port of Miami, from surface to bottom, adjacent to the American Airlines Arena, and within the American Airlines Arena Basin, encompassed by a line commencing from the shore at 25°47.02′N, 080°11.12′W; thence, east to turning basin marker “D” at 25°47.02′N, 80°11.09′W; thence, southeasterly to turning basin marker “E” at 25°46.91′N, 080°11.00′W; thence, southeasterly to the tip of the west side fendering system at 25°46.78′N, 080°10.92′W for the Dodge Island Bridge at the Intracoastal Waterway; thence, westerly along the north side of the Dodge Island Bridge to where the bridge intersects the land at American Airlines Arena; thence, north-northwesterly along the shoreline, including all waters from shore to shore within the American Airlines Arena Basin; thence, to 25° 47.02′, 080° 11.12′W back to the original point. All coordinates reference Datum NAD: 1983.

(b) Definitions. The following definitions apply to this section:

Designated Representatives. Coast Guard Patrol Commanders including Coast Guard coxswains, petty officers and other officers operating Coast Guard vessels, and federal, state, and local officers designated by or assisting the Commander, Seventh Coast Guard District, the Captain of the Port of Miami and the Coast Guard Maritime Operations Center (MOC) to regulate the movement of vessels within the RNA and restrict vessels and persons from entering the security zones.

Personal watercraft. A vessel, less than 16 feet in length, which uses an inboard, internal combustion engine powering a water jet pump as its primary source of propulsion. The vessel is intended to be operated by a person or persons sitting, standing or kneeling on the vessel, rather than within the confines of the hull. The length is measured from end to end over the deck excluding sheer, meaning a straight line measurement of the overall length from the foremost part of the vessel to the aftermost part of the vessel, measured parallel to the centerline. Bowsprits, bumpkins, rudders, outboard motor brackets, and similar fittings or attachments, are not included in the measurement. Length is stated in feet and inches.

Rigid hull inflatable boat. A vessel that has an inflatable fabric or rubber collar or a foam collar surrounding the hull of the vessel. The collar is normally joined to a fiberglass hull on larger models or a fabric hull on smaller models. Fabric hulls are often also themselves inflatable, or have an inflatable keel and sometimes have a soft floor or reinforced floor slated with wood or other rigid materials.

Slow speed. The speed at which a vessel proceeds when it is fully off plane, completely settled in the water and not creating excessive wake. Due to the different speeds at which vessels of different sizes and configurations may travel while in compliance with this definition, no specific speed is assigned to slow speed. In no instance should slow speed be interpreted as a speed less than that required to maintain steerageway. A vessel is not proceeding at slow speed if it is:

(1) On a plane;

(2) In the process of coming up onto or coming off a plane; or

(3) Creating an excessive wake.

(c) Regulations. (1) Regulated navigation area. The regulations in this paragraph apply to the area in paragraph (a)(1) of this section.

(i) Vessels less than 100 feet entering and transiting through the regulated navigation area shall proceed continuously and at a slow speed. In no instance should slow speed be interpreted as a speed less than that required to maintain steerageway. Nothing in this rule alleviates vessels or operators from complying with all state and local laws in the area, including manatee slow speed zones.

(ii) All vessels shall comply with orders from the Coast Guard Marine Operations Center (MOC), or the MOC's designated representatives, regulating their speed, course, direction and movements within the RNA. All vessels greater than 100 feet shall check in with the MOC prior to entering or transiting via VHF Channel 12. It is recommended that all other vessels check in with the Coast Guard MOC via VHF channel 12 prior to entering or transiting the RNA.

(iii) No personal watercraft, except those operated by law enforcement officers, are permitted to operate within the RNA.

(iv) No Rigid Hull Inflatable Boats, except those operated by licensed commercial salvors and law enforcement officers, are permitted to operate within the RNA.

(2) Security zones. The regulations in this paragraph apply to the zones in paragraph (a)(2) and (a)(3) of this section. Entry into or remaining within the security zones is prohibited unless authorized by the Coast Guard Captain of the Port, Miami, Florida or the Officer in Charge of the Coast Guard Maritime Operations Center (MOC) or that officer's designated representatives. Persons desiring to enter or transit the areas encompassed by the security zones may contact the Coast Guard Maritime Operations Center on VHF channel 12 or via telephone at (305) 535-8701 to seek permission to enter or transit the area. If permission is granted, all persons and vessels must comply with the instructions of the Captain of the Port or the Officer in Charge of the Coast Guard Maritime Operations Center (MOC) or that officer's designated representatives.

(d) Effective period. This section is effective from 12:01 a.m. on November 16, 2003, until 11:59 p.m. on November 21, 2003.

Dated: November 6, 2003.
Fred M. Rosa,
Captain, U.S. Coast Guard, Commander, Seventh Coast Guard District, Acting.

[FR Doc. 03-28531 Filed 11-13-03; 8:45 am]

BILLING CODE 4910-15-P